ENVIRONMENTAL PROTECTION AGENCY

40 CFR Part 52

[PA-4145a; FRL-7050-4]

Approval and Promulgation of Air Quality Implementation Plans; Pennsylvania; VOC and NOX RACT Determinations for Seven Individual Sources in the Philadelphia-Wilmington-Trenton Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for seven major sources of volatile organic compounds (VOC) and/or nitrogen oxides (NOX). These sources are located in the Philadelphia-Wilmington-Trenton ozone nonattainment area (the Philadelphia area). EPA is approving these revisions to the SIP in accordance with the Clean Air Act (CAA).

DATES: This rule is effective on October 26, 2001, without further notice, unless EPA receives adverse written comment by October 11, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105.

FOR FURTHER INFORMATION CONTACT: Ray Chalmers at (215) 814-2061, the EPA Region III address above or by e-mail at chalmers.ray@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992. The Pennsylvania SIP has approved RACT regulations and requirements for all sources and source categories covered by the CTG's.

On February 4, 1994, PADEP submitted a revision to its SIP to require major sources of NOX and additional major sources of VOC emissions (not covered by a CTG) to implement RACT. The February 4, 1994 submittal was amended on May 3, 1994 to correct and clarify certain presumptive NOX RACT requirements. In the Philadelphia area, a major source of VOC is defined as one having the potential to emit 25 tons per year (tpy) or more, and a major source of NOX is also defined as one having the potential to emit 25 tpy or more. Pennsylvania's RACT regulations require sources, in the Philadelphia area, that have the potential to emit 25 tpy or more of VOC and sources which have the potential to emit 25 tpy or more of NOX to comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrates that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Bucks, Chester, Delaware, Montgomery and Philadelphia Counties; the limited approval of Pennsylvania's generic VOC and NOX RACT regulations shall convert to a full approval for the Philadelphia area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. EPA published its final approval on August 21, 2001 (66 FR 43795). Federal approval of a case by case RACT determination for a major source of NOX in no way relieves that source from any applicable requirements found in 25 PA Code Chapters 121, 123 and 145.

II. Summary of the SIP Revisions

On August 1, 1995, February 2, 1999, July 27, 2001, and August 8, 2001, PADEP submitted revisions to the Pennsylvania SIP which establish and impose RACT for several sources of VOC and/or NOX. This rulemaking pertains to seven of those sources. The remaining sources are or have been the subject of separate rulemakings. The Commonwealth's submittals consist of operating permits (OPs) or compliance permits (CPs) which impose VOC and/or NOX RACT requirements for each source. The table below identifies the sources and the individual permits which are the subject of this rulemaking. A summary of the VOC and/or NOX RACT determinations for each source follows the table.

Pennsylvania—VOC AND NOX RACT Determinations for Individual Sources
Source | County | Operating permit (OP #), compliance permit (CP) | Source type | “Major source” pollutant
G-Seven, Ltd. | Montgomery | OP-46-0078 | Wood Furniture Plant | VOC
Kimberly-Clark Corporation | Delaware | OP-23-0014A | Paper Mill | NOX & VOC
Leonard Kunkin Associates | Bucks | OP-09-0073 | Coating Facility | VOC
PECO Energy Company—Cromby Generating Station | Chester | OP-15-0019 | Power Generating Station | NOX & VOC
Sunoco, Inc. (R&M)—Marcus Hook Plant | Delaware | CP-23-0001 & | Refinery | NOX & VOC
Waste Management Disposal Services of Pennsylvania, Inc. (GROWS Landfill) | Bucks | OP-09-0007 | Landfill | VOC
Waste Resource Energy, Inc. (Operator) and Shawmut Bank, Conn. National Assoc. (Owner)—Delaware County Resource Recovery Facility | Delaware | OP-23-0004 | Municipal Waste Combustors & Power Generators | NOX & VOC

A. G-Seven, Ltd.

G-Seven, Ltd. (G-Seven) operates a wood office furniture production plant located in Hatfield, Montgomery County, Pennsylvania. G-Seven is a major source of VOC. The majority of the VOC emitting installations and processes at this source are subject to categoric specific SIP-approved requirements adopted by the Commonwealth in accordance with the applicable CTG. For the other small sources including 19 space heaters and a Rupp CFA-25 Make-up Air unit, the PADEP issued OP-46-0078 to impose RACT. OP-46-0078 limits the VOC emissions from these small units to less than 3 pounds per hour, 15 pounds per day, or 2.7 tons per year on a 12 month rolling basis. Also requires that the combustion units be operated and maintained in accordance with manufacturer's specifications and good air pollution control practices. OP-46-0078 also requires G-Seven to meet the recordkeeping requirements specified at 25 Pa. Code § 129.95.

B. Kimberly-Clark Corporation

Kimberly-Clark Corporation (Kimberly-Clark) operates a paper mill in Chester, Delaware County, Pennsylvania. Kimberly-Clark's paper mill is a major source of NOX and VOC. Most of the installations and processes at this source are subject to categoric specific SIP-approved VOC RACT requirements adopted by the Commonwealth in accordance with applicable CTGs, and/or to SIP-approved presumptive RACT requirements adopted by the Commonwealth to control NOX. Other installations and processes, including a circulating fluidized bed (CFB) boiler (the #10 boiler), two other boilers (#8 and #9), and several paper machines which are equipped with product drying hoods and associated heaters, are subject to the generic provisions of Pennsylvania's RACT regulation. The PADEP issued OP-23-0014A to impose RACT. As RACT requirements for the CFB boiler, OP-23-0014A limits NOX emissions to 0.11 lb./MMBtu on a 30 day rolling average, and limits VOC emissions to 23.94 tons per year as a 12 month rolling sum. OP-23-0014A requires Kimberly-Clark to operate Continued In Stack NOX monitors for this boiler. As RACT requirements for the #8 boiler, OP-23-0014A limits NOX emissions to 91.08 lb. per hour, and limits VOC emissions to 9.90 lb. per hour. As RACT requirements for the #9 boiler, OP-23-0014A limits NOX emissions to 114.54 lb. per hour, and limits VOC emissions to 12.45 lb. per hour. OP-23-0014A also requires the #8 and #9 boilers to be operated and maintained in a manner consistent with good operating and maintenance practices. OP-23-0014A limits the combined VOC emissions from paper machines Nos. 8, 10, 12, 16, 17, 18, and 19 to 223 tons per year as a 12 month rolling sum to be calculated monthly. OP-23-0014A also requires that the VOC emissions of any individual machine not exceed 125 tons per year, except for machine No. 10, for which the permit sets a limit of 123.6 tons per year. In addition, OP-23-0014A limits the VOC emissions from the pulp brightening process to 28.96 tons per year. In addition, OP-23-0014A establishes limits on NOX and VOC emissions from the burners at paper machines #16, #18, and #19. As RACT requirements for two burners at paper machine #16, OP-23-0014A specifies that the NOX emissions shall be limited to 0.1 lb/MM Btu and 19.71 tpy as 12 month rolling sum, and specifies that VOC emissions shall be limited to 0.54 tpy as a 12 month rolling sum. OP-23-0014A also requires the unit to be operated and maintained in a manner consistent with good operating and maintenance practices. In addition, OP-23-0014A requires that the burners at paper machine #16 be fired only with natural gas. As RACT requirements for the burners associated with paper machine #18, OP-23-0014A specifies that the NOX emissions from the drying hood burners shall be limited to 4.80 lbs./hr. and that non-methane total organic compound emissions shall be limited to 0.16 lbs./hr. As RACT requirements for the burners at paper machine #19, OP-23-0014A specifies that the NOX emissions shall be limited to 0.2 lb/MMBtu and 99 tpy as 12 month rolling sum, and that VOC emissions shall be limited to 1.34 tpy as 12-month rolling sum. OP-23-0014A also requires an annual adjustment or tune-up of the burners at paper machine #19. In addition, OP-23-0014A requires that the burners at paper machine #19 be fired only with natural gas or No. 2 fuel oil. As RACT requirements for the burners at the 20 inch experimental paper machine, OP-23-0014A requires that operation of the machine be limited to 2,000 hours per year, that only natural gas be used as a fuel, and that operation and maintenance be in accordance with manufacturer's specifications. OP-23-0014A also contains requirements applicable to some other miscellaneous emissions units. OP-23-0014A requires that the total emissions of VOC from tanks 036A, 050A, 064A, 065A, a generator tank, the building/grounds, and coal yards shall not exceed 4.42 tpy as a 12 month rolling sum. The permit also requires that each tank shall be operated with VOC emission rates of no greater than 3 lbs./hr., 15 lbs./day, and 2.7 tons/year. OP-23-0014A also requires that two emergency generators and an emergency fire pump be operated less than 500 hours in any consecutive 12-month period, which results in presumptive RACT requirements being applicable to these units. In addition to the in stack monitors that must be operated for the CFB boiler, the permit also requires that records be kept of the monitored emissions levels of the CFB boiler, of the firing rate of boiler, and of the fuels fired by the boiler. OP-23-0014A requires the fuel used by the No. 8 and 9 boilers to be measured by fuel meters, and the hours of operation of the boilers to be recorded. For the paper process, OP-23-0014A requires records to be kept of the various chemical compounds used in the process and their VOC contents, the emissions of VOC per paper machine, and the production in tons per day for each paper machine. OP-23-0014A also requires the Company to keep all records and other data required to demonstrate compliance with the NOX/VOC RACT requirements of 25 Pa. Code Sections 129.91-129.95.

C. Leonard Kunkin Associates

Leonard Kunkin Associates (Leonard Kunkin) operates a coating facility located in Bucks County, Pennsylvania. Most of the VOC emitting installations and processes at this source are subject to categoric specific SIP-approved requirements adopted by the Commonwealth in accordance with applicable CTGs. The PADEP issued OP-09-0073 to impose RACT for the facility's clean-up operations. Pennsylvania determined that RACT for the clean-up operations is the use of work practices to minimize VOC emissions. OP-09-0073 requires the Company to keep records associated with the cleaning solvent accounting system.

D. PECO Energy Company's (now Exelon Generation Company's) Cromby Generating Station

PECO Energy Company (now Exelon Generation Company) operates the Cromby Power Generating Station located in Chester County, Pennsylvania. The Cromby Generating Station is a major NOX and VOC emitting facility. The units at this facility which emit NOX and/or VOC consist of the #1 coal fired boiler, which is rated at 1537 MMBtu/hr, the #2 oil and/or natural gas fired boiler, which is rated at 2300 MMBtu/hr, an auxiliary boiler rated at 42 MMBtu/hr, and an emergency diesel generator rated at 28.7 MMBtu/hr. The PADEP issued OP-15-0019 to impose RACT for these operations. OP-15-0019 specifies that the #1 coal fired boiler is subject to presumptive NOX RACT requirements. OP-15-0019 notes that under Pennsylvania's presumptive NOX RACT requirements the #1 boiler must be equipped with low NOX burners and separate overfire air. OP-15-0019 also establishes a NOX emission limit for the #1 boiler of 0.50 lbs/MMBtu on a 30-day rolling average, and a VOC emissions limit of 0.003 lbs/MMBtu and 25 tpy, whichever is more stringent. OP-15-0019 specifies that Cromby Unit No. 1 must use a Continuous Emissions Monitoring System (CEMS). OP-15-0019 specifies that NOX RACT for the #2 oil-fired boiler consists of the use of an air biasing technique which involves air staging to the upper compartments in the windbox to create a function of close coupled overfire air. OP-15-0019 establishes NOX emissions limits for the #2 boiler as follows: (1) An hourly rate of 0.30 lbs/MMBtu as a 24-hour average while burning fuel oil, or 0.21 lbs/MMBTU as a 24-hour average while burning natural gas, or a 0.28 lbs/MMBtu as a 24-hour average when co-firing both fuels; (2) 0.30 lbs/MMBtu on a 30-day rolling average while burning fuel oil or, 0.21 lbs/MMBtu on a 30-day rolling average while burning natural gas, or a 0.28 lbs/MMBtu on a 30-day rolling average while co-firing both fuels, and 1,287 tpy per year whichever is more stringent. OP-15-0019 also establishes a VOC emissions limit for the #2 boiler of 0.002 LB/MMBTU and 6.2 tpy, whichever is more stringent. OP-15-0019 specifies that a CEMS shall be installed on Cromby Unit No. 2. OP-15-0019 also notes that the auxiliary boiler and the emergency diesel generator are subject to presumptive NOX RACT requirements. OP-15-0019 specifies that compliance with the VOC emissions requirements of both boilers are to be determined by stack test. The permit also requires records to be kept of fuel throughput and fuel characteristics. The permit also contains requirements that sufficient data and calculations be kept to clearly demonstrate compliance with the requirements of 25 Pa. Code 129.91-129.94. PECO Energy Company's (now Exelon Generation Company's) Cromby Power Generating Station is also subject to additional post-RACT requirements to reduce NOX found at 25 PA Code Chapters 121, 123 and 145.

E. Sunoco, Inc. (R&M)'s Marcus Hook Refinery

Sunoco, Inc. (R&M) operates the Marcus Hook Refinery located in Delaware County, Pennsylvania. The Marcus Hook Refinery is a major NOX and VOC emitting facility. The majority of the installations and processes at this source are subject to categoric specific SIP-approved VOC RACT requirements adopted by the Commonwealth in accordance with applicable CTGs, and/or to SIP-approved presumptive RACT requirements adopted by the Commonwealth to control NOX. The PADEP issued CP-23-0001 to Sunoco to impose RACT. CP-23-0001 also establishes NOX emission limits for the following emission units, which in the case of boilers #2—#5 vary depending on the fuel being burned. The units for which NOX limits are established, and the applicable limits, are shown below:

Unit | Limit when burning gas (lbs. NOXMMBtu) | Limit when burning oil (lbs. NOXMMBtu)
Boiler #1 located in the #15 Boilerhouse | *0.25 | N/A
Boilers #2 through #5 located in the #15 Boilerhouse | *0.25 | *0.4
Boilers #6 and #7 located in the #15 Boilerhouse | *0.25 | N/A
Vacuum Heater # H-301 at the 12-3 Crude and Vacuum Distillation Unit | 0.064 | N/A
Heater H3006 at the 12-3 Crude and Vacuum Distillation Unit | 0.131 | N/A
Crude Heater #3 located at the 15-1 Crude Distillation Unit | 0.161 | N/A
10-4 FCCU/CO Boiler | *0.25 | N/A
17-2A BTX Reforming Heater | *0.25 | N/A
Heater # H-101 at the 17-1A Octane Reforming Unit | *0.25 | N/A
10-4 Catalytic Cracker Feed Heater | *0.25 | N/A
* Pennsylvania specified that these limits apply on a 24 hour basis.

Stack testing or CEMS are required for all combustion units except for those that are designated as permanently shutdown . CP-23-0001 specifies that the 17-1A Octane Reforming Unit HTR-101, and the Nos. 2, 3, and 4 boilers were permanently removed from service on February 1, 1997 and in May 1999, respectively. CP-23-0001 identifies the following units or processes as subject to RACT requirements for VOCs: marine vessel loading, truck loading of xylene and toluene, cooling towers, the Middle Creek Wastewater Conveyance, and combustion sources. For marine vessel loading, CP-23-0001 requires that the VOC emissions be captured by the respective vapor recovery systems and be distributed via a piping network to the refinery vapor control system. All VOC vapors collected by the refinery vapor recovery system shall be fed a primary fuel to the process heaters and boilers in the refinery. CP-23-0001 requires that the VOC vapors be destroyed at a minimum of 90% by weight. With regard to benzene, CP-23-0001 also imposes the applicable requirements of 40 CFR 61.302 and 40 CFR 61.242. For tank truck loading of xylene and toluene, CP-23-0001 specifies the use of a submerged loading method to reduce vapor loss. CP-23-0001 limits emissions from the toluene and xylene truck loading operations to a maximum of 7.8 tons per year as a 12-month rolling sum. The potential emissions from all 13 cooling towers calculates to 38.30 tpy of VOC. CP-23-0001 requires that they be operated and maintained in a manner consistent with good operating and maintenance practices, and that an equipment maintenance and repair program be used to minimize and repair program to minimize and repair exchanger leaks. CP-23-0001 indicates that the Middle Creek wastewater system was an open wastewater conveyance system . CP-23-0001 explains that the Company has replaced the open system with a closed system. The pre-RACT 1990 baseline emissions were 1,105.2 tpy. CP-23-0001 establishes RACT for the wastewater conveyance system as: (1) use of a bio-treatment unit to control the No. 16 separator effluent discharge, (2) enclosing the No. 14 separator flume for discharge to the No. 16 separator, and (3) a VOC emissions limit of 509.4 tons per year. The Middle Creek Abatement Project (MCAP) was undertaken to replace the pre-existing wastewater conveyance system with enclosed piping to further reduce emissions from this system. The project was a result of the Toxicity Characteristics Rule under the Resource Conservation and Recovery Act (RCRA) and 40 CFR 61 Subpart FF. CP-23-0001 specifies the control devices and the resulting VOC emission rates.The VOC emissions are 1, 825.0 lbs/yr (0.9 tpy). With respect to the combustion sources, CP-23-0001 limits their total VOC emissions to a maximum of 93.1 tons per year as a rolling sum calculated monthly. CP-23-0001 contains numerous emissions testing and monitoring provisions associated with individual emissions units. In addition, the refinery is subject to the recordkeeping requirements specified at 25 Pa. Code § 129.95.

F. Waste Management Disposal Services of Pennsylvania, Inc.'s GROWS Landfill

Waste Management Disposal Services of Pennsylvania, Inc. owns and operates the GROWS Landfill (Waste Management) located in Bucks County, Pennsylvania. Waste Management's GROWS landfill is a major source of VOC. The landfill's VOC emissions result from materials in the landfill decomposing and generating landfill gas which contains VOCs. The landfill is subject to the generic provisions of Pennsylvania's RACT regulation because of the landfill gas emissions. The PADEP issued OP-09-0007 to impose RACT. OP-09-0007 specifies that RACT for the landfill consists of a system for collecting the landfill gas emissions, the use of a pre-treatment system to process the collected gas, and the routing of the gas through a pipeline to an off-site source or to a flare. The permit specifies that gas is to be sent to off-site sources at all times except during periods of start-up, shakedown, scheduled maintenance, testing, or malfunction in the gas transfer or pre-treatment system, or when unavoidable due to circumstances beyond the control of permitee. The off-site sources burn the gas as a fuel. During situations when the gas cannot be sent to an off-site source, the gas is required to be burned in a back-up flare. OP-09-0007 requires the flare to have a minimum destruction and removal efficiency for VOC of 98% (by weight), or the VOC concentration in the exhaust gas to be less than 20 ppmv (dry basis as hexane at 3% oxygen), whichever is less stringent. In addition, OP-09-0007 requires the flare to be operated within a temperature range of 1550 to 1700 degrees F. OP-09-0007 also requires the flare to be operated no more than 4,380 hours per year and to be used to burn a maximum of 5,000 scfm of landfill gas. OP-09-0007 requires that the landfill gas collection system be capable of handling the maximum expected gas flow rate from the entire area of the landfill. In addition, OP-09-0007 requires that the gas collection system be designed to minimize off-site migration of the subsurface gas. Further, OP-09-0007 requires that the collection efficiency of the gas management system for the final design of the landfill at closure shall be not less than a minimum of 90%. It should be noted that OP-09-0007 also imposes the applicable landfill requirements specified in EPA's “Emission Guidelines and Compliance Times for Municipal Solid Waste Landfills,” which is found at 40 CFR 60, Subpart Cc. OP-09-0007 requires the Company to comply with the reporting requirements referenced in 40 CFR 60, Subpart Cc, unless alternative requirements are approved pursuant to the provisions of that Subpart. In addition, the landfill is subject to the recordkeeping requirements specified at 25 Pa. Code § 129.95.

G. Waste Resource Energy, Inc. (Operator) and Shawmut Bank, Conn. National Assoc. (Owner)—Delaware County Resource Recovery Facility

Waste Resource Energy, Inc. operates, and Shawmut Bank, Conn. National Associates owns, the Delaware County Resource Recovery Facility (the facility) located in Chester, Delaware County, Pennsylvania. The facility burns municipal waste in six combustors (incinerators), and uses the resulting heat to produce steam which drives turbine-generators which produce electricity. The facility is a major NOX and VOC emitting facility. The facility is equipped with six Westinghouse-O'Connor municipal waste combustors (incinerators), which are subject to the generic provisions of Pennsylvania's RACT regulation. Each of the combustors is capable of burning 448 tons of municipal waste per day and each has a heat input rating of 194 x 10⁶ Btu per hour. The PADEP issued OP-23-0004 to impose RACT. OP-23-0004 requires the facility to meet NOX emissions limits for each combustor (expressed as NO2) of 180 ppmv on a 24-hour daily average, 88.56 pounds per hour corrected to 7% O2 on a dry basis, and 0.42 lbs/MMBtu. OP-23-0004 specifies that these requirements apply at all times when municipal waste is being combusted, except during periods of start-up and shutdown, provided that the duration of start-up or shutdown shall not exceed three hours per occurrence. OP-23-0004 requires the entire facility to meet a VOC RACT emissions limit of 50 tons per year, and requires the facility's combustors to meet a VOC emissions limit, expressed as total hydrocarbons, of 37.6 lbs/hr as a total emissions rate for the six combustors. OP-23-0004 requires NOX emissions to be monitored by the use of CEMS. In addition, OP-23-0004 requires stack tests for NOX and VOC to be done every 12 months. The permit also requires records to be kept of all air pollution control system evaluations, of calibration checks, and of adjustments and maintenance performed on all equipment subject to the permit's requirements.

III. EPA's Evaluation of Pennsylvania's SIP Revisions

EPA is approving Pennsylvania's RACT SIP submittals because PADEP established and imposed these RACT requirements in accordance with the criteria set forth in its SIP-approved RACT regulations applicable to these sources. The Commonwealth has also imposed recordkeeping, monitoring, and testing requirements on these sufficient to determine compliance with the applicable RACT determinations.

IV. Final Action

EPA is approving the SIP revisions to the Pennsylvania SIP submitted by PADEP to establish and require VOC and/or NOX RACT for seven major of sources located in the Philadelphia area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 26, 2001, without further notice unless EPA receives adverse comment by October 11, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section , or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for seven named sources.

C. Petitions for Judicial Review

Under section 307(b)(1) of the Clean Air Act, petitions for judicial review of this action must be filed in the United States Court of Appeals for the appropriate circuit by November 13, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and/or NOX from seven individual sources in the Philadelphia area of Pennsylvania may not be challenged later in proceedings to enforce its requirements. (See section 307(b)(2).)

List of Subjects in 40 CFR Part 52

Environmental protection, Air pollution control, Hydrocarbons, Incorporation by reference, Nitrogen dioxide, Ozone, Reporting and recordkeeping requirements.

Dated: August 29, 2001.
Thomas C. Voltaggio,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(179) to read as follows:

§ 52.2020 Identification of plan.

* * * * *

(c) * * *

(179) Revisions to the Pennsylvania Regulations, Chapter 129 pertaining to VOC and/or NOX RACT for seven sources located in the Philadelphia-Wilmington-Trenton ozone nonattainment area submitted by the Pennsylvania Department of Environmental Protection on August 1, 1995, February 2, 1999, July 27, 2001, and August 8, 2001.

(i) Incorporation by reference.

(A) Letters submitted by the Pennsylvania Department of Environmental Protection transmitting source-specific VOC and/or NOX RACT determinations, in the form of plan approvals, operating permits, or compliance permits on the following dates:

August 1, 1995, February 2, 1999, July 27, 2001, and August 8, 2001.

(B) Operating permits (OP), or Compliance Permits (CP) issued to the following sources:

(1) PECO Energy Company, Cromby Generating Station, OP-15-0019, effective April 28, 1995.

(2) Waste Resource Energy, Inc. (Operator); Shawmut Bank, Conn. National Assoc. (Owner); Delaware County Resource Recovery Facility, OP-23-0004, effective November 16, 1995.

(3) G-Seven, Ltd., OP-46-0078, effective April 20, 1999.

(4) Leonard Kunkin Associates, OP-09-0073, effective June 25, 2001.

(5) Kimberly-Clark Corporation, OP-23-0014A, effective June 24, 1998 as revised August 1, 2001.

(6) Sunoco, Inc. (R&M); Marcus Hook Plant; CP-23-0001, effective June 8, 1995 as revised August 2, 2001, except for the expiration date.

(7) Waste Management Disposal Services of Pennsylvania, Inc. (GROWS Landfill), Operating Permit OP-09-0007, effective December 19, 1997 as revised July 17, 2001.

(ii) Additional Materials—Other materials submitted by the Commonwealth of Pennsylvania in support of and pertaining to the RACT determinations for the sources listed in paragraph (c)(179)(i)(B) of this section.

[FR Doc. 01-22615 Filed 9-10-01; 8:45 am]

BILLING CODE 6560-50-U